DEPARTMENT OF COMMERCE

National Institute of Standards and Technology

Visiting Committee on Advanced Technology

AGENCY: National Institute of Standards and Technology, Department of Commerce.

ACTION: Notice of public meeting.

SUMMARY: The Visiting Committee on Advanced Technology (VCAT or Committee), National Institute of Standards and Technology (NIST), will meet Wednesday, February 8, 2012, from 8:30 a.m. to 5 p.m. Eastern Standard Time and Thursday, February 9, 2012, from 8:30 a.m. to 3 p.m. Eastern Standard Time. The VCAT is composed of fifteen members appointed by the Under Secretary of Commerce for Standards and Technology who are eminent in such fields as business, research, new product development, engineering, labor, education, management consulting, environment, and international relations.

DATES: The VCAT will meet on Wednesday, February 8, 2012, from 8:30 a.m. to 5 p.m. Eastern Standard Time and Thursday, February 9, 2012, from 8:30 a.m. to 3 p.m. Eastern Standard Time.

ADDRESSES: The meeting will be held at the U.S. Department of Commerce, Herbert Hoover Building, Room 4830, 1401 Constitution Avenue NW., Washington, DC 20230. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's email address is Stephanie.shaw@nist.gov.

SUPPLEMENTARY INFORMATION:

Authority: 15 U.S.C. 278.

The purpose of this meeting is to review and make recommendations regarding general policy for NIST, its organization, its budget, and its programs within the framework of applicable national policies as set forth by the President and the Congress. The agenda will include an update on NIST, a discussion on NIST and VCAT priorities for 2012, an overview of the President's FY 2013 total budget request for Science and Technology, and an update on the National Science and Technology Council's Subcommittee on Standards. Presentations and discussions will also cover NIST and Advanced Manufacturing, the Federal Risk and Authorization Management Program (FedRAMP), the National Cybersecurity Center of Excellence, and the National Strategy for Trusted Identities in Cyberspace National Program Office. The meeting will also include preparation and feedback sessions on observations, findings, and draft recommendations for the 2011 VCAT Annual Report. The agenda may change to accommodate Committee business. The final agenda will be posted on the NIST Web site at http://www.nist.gov/director/vcat/agenda.cfm.

Individuals and representatives of organizations who would like to offer comments and suggestions related to the Committee's affairs are invited to request a place on the agenda. On February 9, 2012, approximately one-half hour will be reserved in the morning for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at (301) 216-0529 or electronically by email to gail.ehrlich@nist.gov.

All visitors to the U.S. Department of Commerce Herbert C. Hoover Building site are required to pre-register to be admitted. Anyone wishing to attend this meeting must register by close of business Tuesday, January 31, 2012, in order to attend. Please submit your full name, time of arrival, email address, and phone number to Stephanie Shaw by close of business Tuesday, January 31, 2012. Non-U.S. citizens must also submit their country of citizenship, title, employer/sponsor, and address along with other data to be requested by Ms. Shaw. Ms. Shaw's email address is stephanie.shaw@nist.gov and her phone number is (301) 975-2667. Please note that due to security policies in place at the Hoover building, visitors are strongly encouraged not to bring laptop computers unless they can also verify proof of ownership.

Dated: January 17, 2012.
Willie E. May,
Associate Director for Laboratory Programs.

[FR Doc. 2012-1184 Filed 1-20-12; 8:45 am]

BILLING CODE 3510-13-P